DEPARTMENT OF DEFENSE

Office of the Secretary; Military Compensation Advisory Committee Meeting

AGENCY: Department of Defense, DOD.

ACTION: Notice; announce public meeting of the Defense Advisory Committee on Military Compensation (DACMC).

SUMMARY: The Defense Advisory Committee on Military Compensation committee will provide the Secretary of Defense, through the Under Secretary of Defense (Personnel and Readiness), with assistance and advice on matters pertaining to military compensation. The agenda for this meeting will be to discuss various aspects of the military pay and benefits system. Members of the Public may attend but participation in Committee discussions by the Public will not be permitted. Written submissions of data, information, and views may be sent to the Committee contact person at the address shown. Submissions should be received by close of business Monday, September 12th to allow time for distribution to the board members prior to the meeting. Persons attending are advised that the Committee is not responsible for providing access to electrical outlets.

DATES: Wednesday, September 21, 2005, from 10 a.m. to 12 p.m. (morning session) and 1 p.m. to 3 p.m. (afternoon session).

ADDRESSES: Crystal City Hilton, 2399 Jefferson Davis Highway, Arlington, VA 22202.

FOR FURTHER INFORMATION CONTACT: Contact Mr. Terry Mintz, Designated Federal Official, Defense Advisory Committee on Military Compensation, 2521 S. Clark Street, Arlington, VA 22202. Telephone: (703) 699-2700.

SUPPLEMENTARY INFORMATION: The Committee examines what types of military compensation and benefits are most effective for meeting the needs of the Nation. The committee membership consist of the following members: Chairman: ADM (Ret) Donald L. Pilling. Members: Dr. John P. White; Gen (Ret) Lester L. Lyles; Mr. Frederic W. Cook; Dr. Walter Oi; Dr. Martin Anderson; and Mr. Joseph E. Jannotta.

Dated: August 22, 2005.
Jeannette Owings-Ballard,
OSD Federal Register Liaison Officer, Department of Defense.

[FR Doc. 05-17007 Filed 8-25-05; 8:45 am]

BILLING CODE 5001-06-P